DEPARTMENT OF ENERGY

Federal Energy Regulatory Commission

[Docket No. UL11-1-000; Project No. 2299-078]

Turlock Irrigation District and Modesto Irrigation District; Notice Clarifying Party Status

On January 9, 2013, the Modesto Irrigation District (Modesto) filed a motion for clarification of party status or, in the alternative, for intervention in the above-captioned jurisdictional proceeding with respect to the La Grange Project. In its December 19, 2012 Order Finding Licensing of Hydroelectric Project Required, 141 FERC ¶ 62,211 (2012), Commission staff imposed filing requirements on Modesto and included Modesto in the caption of the Order. In addition, Modesto is part owner of the La Grange Dam. Therefore, the Commission clarifies that Modesto is a party to the jurisdictional proceeding.

Dated: January 11, 2013.
Kimberly D. Bose,
Secretary.

[FR Doc. 2013-00900 Filed 1-16-13; 8:45 am]

BILLING CODE 6717-01-P